NATIONAL ARCHIVES AND RECORDS ADMINISTRATION

Office of Presidential Libraries; Disposal of Superseded Version of Clinton Administration Electronic Mail Records

AGENCY: National Archives and Records Administration (NARA).

ACTION: Presidential Records Act notice of disposal of superseded version of Clinton Administration electronic mail records; final agency action.

SUMMARY: The National Archives and Records Administration (NARA) has identified an incomplete version of Presidential records on electronic media, housed at Archives II in College Park, Maryland, as appropriate for disposal under the provisions of 44 U.S.C. 2203(f)(3). This notice describes the records and our reasons for determining that the records have insufficient administrative, historical, informational, or evidentiary value to warrant their continued preservation, in light of the fact that NARA is maintaining a more comprehensive set of the same records on a different set of electronic media.

EFFECTIVE DATE: The disposal will occur on or after June 4, 2004.

FOR FURTHER INFORMATION CONTACT: Deputy Assistant Archivist for Presidential Libraries Sharon Fawcett, National Archives and Records Administration (NL), 8601 Adelphi Road, College Park, Maryland 20740-6001, tel. 301-837-3250, or by fax to 301-837-3199; or by e-mail to sharon.fawcett@nara.gov.

SUPPLEMENTARY INFORMATION: NARA published a “Presidential Records Act notice of proposed disposal of superseded version of Clinton Administration electronic mail records ” on December 30, 2003, in the Federal Register (68 FR 75286) for a 45 day comment period. NARA received two comments via e-mail, one from the President of the Terry County Historical Commission in Brownfield, Texas, and one from a private individual. The following is a summary of the comments and NARA's response:

Summary of Comments: Both commenters objected to the disposition of presidential records, and suggested that the records at issue may include important historical information and that such information may be lost if the data contained on the electronic media is subject to disposition. One commenter suggested that NARA might wish to donate the materials to a library rather than act to dispose of the electronic media.

NARA Response: As explained in detail in the original Federal Register notice, the copies of Presidential e-mail records contained on the 27,866 cartridges proposed for disposition constitute an incomplete and superseded subset of the Presidential e-mail record series from the Executive Office of the President (EOP) in the Clinton Administration that NARA has otherwise obtained in multiple electronic formats. Because NARA has a separate, more comprehensive set of Clinton e-mail records that includes all of the e-mails on these cartridges, no information will be lost by disposing of this incomplete set. Due to continuing restrictions on access to Presidential records, donation of the electronic media at issue to an outside institution is not legally permissible.

NARA Action: NARA will proceed to dispose of 27,866 volumes of class 3480 magnetic tape cartridges, consisting of an incomplete and superseded set of email records created from July 15, 1994 through December 1999, because NARA has determined that they lack continuing administrative, historical, informational, or evidentiary value. As stated in our prior notice, NARA will be able to respond to future access requests for Clinton Administration e-mail records from the EOP through a separate database NARA received from the EOP. For further details, see the notice of proposed disposal at 68 FR 75286. This notice constitutes NARA's final agency action pursuant to 44 U.S.C. 2203(f)(3).

Dated: March 29, 2004.
John W. Carlin,
Archivist of the United States.

[FR Doc. 04-7569 Filed 4-2-04; 8:45 am]

BILLING CODE 7515-01-P